DEPARTMENT OF TRANSPORTATION

Pipeline and Hazardous Materials Safety Administration

Hazardous Materials: Notice of Applications for Modification to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before September 22, 2025.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-13, 1200 New Jersey Avenue Southeast, Washington DC or at http://regulations.gov.

This notice of receipt of applications for special permit is published in accordance with part 107 of the Federal hazardous materials transportation law (49 U.S.C. 5117(b); 49 CFR 1.53(b)).

Issued in Washington, DC, on September 2, 2025.
Donald P. Burger,
Chief, General Approvals and Permits Branch.

Special Permits Data
Application No. | Applicant | Regulation(s) affected | Nature of the special permits thereof
14940-M | Crown Cork & Seal USA, Inc | 173.306(a)(3), 178.33, 178.33a | To modify the special permit to authorize cargo aircraft and passenger-carrying aircraft as authorized modes of transportation. (modes 1, 2, 3, 4, 5)
16308-M | Vero Biotech Inc | 173.175 | To modify the special permit to authorize changes to the packaging. (modes 1, 2, 3, 4, 5)
21134-M | GATX Corporation | 179.100-4(a), 179.200-4(a) | To modify the special permit authorizing new tank car owners to operate under the special permit until the next tank car qualification due date. (mode 2)
21308-M | Micropore, Inc | 173.240(d), 173.240(d)(1) | To modify the special permit to authorize an additional packaging. (mode 1)
21408-M | GFS Chemicals, Inc | 173.158(f)(3) | To modify the special permit to authorize the manufacture of plastic bottles with a smaller opening. (modes 1, 3)
21936-M | Electronic Fluorocarbons, LLC | 171.23(a)(3), 173.23(b)(10) | To modify the special permit to authorize the export of an additional packaging containing residue. (modes 1, 2, 3)

[FR Doc. 2025-17017 Filed 9-4-25; 8:45 am]

BILLING CODE P